DEPARTMENT OF LABOR

Mine Safety and Health Administration

30 CFR Part 57

RIN 1219-AB11

Diesel Particulate Matter Exposure of Underground Metal and Nonmetal Miners; Delay of Effective Dates

AGENCY: Mine Safety and Health Administration (MSHA), Labor.

ACTION: Final rule; delay of effective dates and conforming amendments.

SUMMARY: In accordance with the memorandum dated January 20, 2001, from Andrew H. Card, Jr., the Assistant to the President and Chief of Staff, entitled “Regulatory Review Plan,” published in the Federal Register on January 24, 2001 (66 FR 7702), the Mine Safety and Health Administration is delaying for 60 days the effective date of the rule entitled, “Diesel Particulate Matter Exposure of Underground Metal and Nonmetal Miners,” published in the Federal Register on January 19, 2001 (66 FR 5706). This temporary delay will allow the Department an opportunity for further consideration of this rule.

EFFECTIVE DATE: The effective date of the rule amending 30 CFR Part 57 published on January 19, 2001, at 66 FR 5706 is delayed from March 20, 2001, until May 21, 2001.

In the final rule that addresses the exposure of underground metal and nonmetal miners to diesel particulate matter, the effective date of the rule is delayed. The rule will become effective May 21, 2001. Section 57.5067 will become effective May 21, 2001. However, § 57.5060(a) will continue to apply on July 19, 2002 and § 57.5060(b) will continue to apply on January 19, 2006.

FOR FURTHER INFORMATION CONTACT: David L. Meyer, Director; Office of Standards, Regulations, and Variances; MSHA, 4015 Wilson Boulevard, Arlington, Virginia 22203-1984. Mr. Meyer can be reached at dmeyer@msha.gov (E-mail), 703-235-1910 (Voice), or 703-235-5551 (fax).

SUPPLEMENTARY INFORMATION: On January 19, 2001, MSHA published the final rule addressing diesel particulate matter exposure of underground miners. The final rule establishes new health standards for underground metal and nonmetal mines that use equipment powered by diesel engines and requires operators of these underground mines to train miners about the hazards of being exposed to diesel particulate matter.

In accordance with the January 20, 2001, memorandum from Andrew H. Card, this notice announces the 60-day delay of the effective date of certain provisions of the final regulations.

I. Delayed Effective Dates

To the extent that 5 U.S.C. 553 applies to this action, it is exempt from notice and comment because it constitutes a rule of procedure under 5 U.S.C. 553(b)(A). The Department's implementation of this rule without opportunity for public comment, effective immediately upon publication today in the Federal Register, is also based on the good cause exceptions in 5 U.S.C. 553(b)(B) and 553(d)(3), in that seeking public comment is impracticable, unnecessary and contrary to the public interest. The 60-day delay in effective dates is necessary to give Department officials the opportunity for further review and consideration of new regulations, consistent with the Assistant to the President's memorandum of January 20, 2001. Given the imminence of the effective date, seeking prior public comment on this delay is impractical, as well as contrary to the public interest in the orderly promulgation and implementation of regulations.

II. Revisions to the Regulatory Text of the Final Rule Addressing Diesel Particulate Matter Exposure of Underground Metal and Nonmetal Miners

List of Subjects in 30 CFR Parts 57

Diesel particulate matter, Metal and nonmetal, Mine safety and health, Underground mines.

The final rule published on January 19, 2001 (66 FR 5526) is amended as follows:

PART 57—[AMENDED]

1. The authority citation for part 57 continues to read as follows:

Authority: 30 U.S.C. 811, 957, 961.

§ 57.5067 [Amended]

2. In § 57.5067, paragraph (a) is amended by removing the date “March 20, 2001” and adding in its place “May 21, 2001.”

Signed at Arlington, Virginia, this 12th day of March, 2001.
Robert A. Elam,
Acting Assistant Secretary for Mine Safety and Health.

[FR Doc. 01-6429 Filed 3-14-01; 8:45 am]

BILLING CODE 4510-43-U